BROADCASTING BOARD OF GOVERNORS

Proposed Information Collection Reinstatement; Comment Request

AGENCY: The Broadcasting Board of Governors.

ACTION: Proposed information collection reinstatement; comment request.

SUMMARY: The Broadcasting Board of Governors (BBG), as part of its continuing effort to reduce paperwork and respondent burden, invites public comment on an information collection titled, “Surveys and Other Audience Research for Radio and TV Marti.” This request for comment is being made pursuant to the Paperwork Reduction Act of 1995 [Pub. L. 104-13; 44 U.S.C. 3506(c)(2)(A)].

The information collection activity involved with this program is conducted pursuant to the mandate given to the BBG to provide for the broadcasting of accurate information to the people of Cuba, and other purposes, under Public Law 98-111, the Radio Broadcasting to Cuba Act, dated, October 4, 1983, and Public Law 101-246, dated, February 16, 1990.

DATES: Comments must be submitted by April 28, 2014.

FOR FURTHER INFORMATION CONTACT: Mr. Chris Luer, Chief, Office of Administration, BBG, Room 1274, 330 Independence Avenue SW, Washington, DC 20237, telephone (202) 203-4608, email address cluer@bbg.gov

Copies: Copies of the Request for Clearance, supporting statement, and other documents that will be submitted to OMB for approval may be obtained from the Chief of the Office of Administration for BBG.

SUPPLEMENTARY INFORMATION: An Agency may not conduct or sponsor, and a person is not required to respond to, a collection of information unless it displays a currently valid OMB control number. The Federal Register Notice with a 60-day comment period soliciting comments on this collection of information was published in the Federal Register, 79 FR 3777, on January 23, 2014.

Annual estimated burden for this proposed collection of information is estimated to average 3 hours per response for 96 Focus Group Studies respondents, 3 hours per response for 30 Audience Panels respondents, and 15 minutes (0.25 of an hour) per response for 300 Structured Surveys respondents, including average estimated time for travel to and from the facility where research activities are conducted. Respondents will be required to respond only one time for Focus Group Studies and Structured Surveys, but three 3 times for Audience Panels. Comments are requested on the proposed information collection concerning:

(a) Whether the proposed collection of information is necessary for the proper performance of the agency's functions, including whether the information collection has practical utility;

(b) the accuracy of the Agency's burden estimates;

(c) ways to enhance the quality, utility, and clarity of the information collected; and

(d) ways to minimize the burden of the collection of information on the respondents, including the use of automated collection techniques or other forms of information technology.

Send comments regarding this burden estimate, or any other aspect of this collection of information, to Mr. Chris Luer, the BBG Clearance Officer, IBB/A, Room 1274, 330 Independence Avenue SW., Washington, DC 20237, telephone (202) 203-4595, e-mail address cluer@bbg.gov.

Current Actions: BBG is requesting reinstatement of this collection for a three-year period and approval for a revision to the burden hours.

Title: Surveys and Other Audience Research for Radio and TV Marti.

Abstract: Data from this information collection are used by BBG's Office of Cuba Broadcasting (OCB) in fulfillment of its mandate to evaluate effectiveness of Radio and TV Marti operations by estimating the audience size and composition for broadcasts. This information collection is also used to assess signal reception, credibility, and relevance of programming.

Proposed Frequency of Responses

Total Annual Responses−96 Focus Group Studies + 90 Audience Panel + 300 Structured Surveys = 486

Average Hours per Response−3 Focus Group Studies + 3 Audience Panel + .25 Structured Surveys = (288) + (270) + (75)

Total annual burden—633 hours

Dated: March 24, 2013.
Chris Luer,
Chief, Office of Administration.

[FR Doc. 2014-06799 Filed 3-26-14; 8:45 am]

BILLING CODE 8610-01-P